DEPARTMENT OF COMMERCE

National Oceanic and Atmospheric Administration

50 CFR Part 648

[Docket No. 010319075-1217-02]

RIN 0648-XK42

Magnuson-Stevens Fishery Conservation and Management Act Provisions; Fisheries of the Northeastern United States; Tilefish Fishery

AGENCY: National Marine Fisheries Service (NMFS), National Oceanic and Atmospheric Administration (NOAA), Commerce.

ACTION: Temporary rule, tilefish commercial quota adjustment.

SUMMARY: NMFS announces that the Administrator, Northeast Region, NMFS (Regional Administrator), has determined that the quota for the tilefish Full-time Tier 2 permit category has been exceeded for fishing year (FY) 2008, requiring an adjustment of the Full-time Tier 2 permit category quota for FY 2009. This action complies with the Fishery Management Plan for the Tilefish Fishery (FMP) and is intended to continue the rebuilding program in the FMP by taking into account previous overages of the tilefish quota.

DATES: Effective November 1, 2008, through October 31, 2009.

FOR FURTHER INFORMATION CONTACT: Timothy A. Cardiasmenos, Fishery Policy Analyst, (978) 281-9204.

SUPPLEMENTARY INFORMATION:

Background

The regulations at 50 CFR 648.290(c) state that any overages of the quota for any tilefish limited access category that occur in a given fishing year will be subtracted from the quota for that category in the following fishing year. This same section also states that, if the tilefish harvest attributed to the open access Incidental permit category exceeds 5 percent of the total allowable landings (TAL) for a given fishing year, the trip limit for the Incidental category may be reduced the following year. In both of these instances, § 648.290(c) specifies that, if an adjustment is required, a notification of adjustment of the quota will be published in the Federal Register.

The tilefish TAL for FY 2009 remains unchanged from previous years at 1.995 million lb (905 mt). The FMP dictates that the TAL be divided between the three limited access tilefish permit categories after the TAL is reduced by 5 percent to account for incidental tilefish landings (open-access Incidental permit category) as follows: Sixty-six percent (1,250,865 lb (567,383 kg)) to Full-time Tier 1; 15 percent (284,288 lb (128,951 kg)) to Full-time Tier 2; and 19 percent (360,098 lb (163,338 kg)) to Part-time vessels.

Based upon vessel reports and other information available, FY 2008 tilefish landings for limited access Full-time Tier 2 permit category were 291,620 lb (132,277 kg), resulting in an overage of 7,332 lb (3,326 kg). This overage amount is being deducted from the FY 2009 Full-time Tier 2 permit category quota through this action, which results in an adjusted quota of 276,956 lb (125,625 kg) for this category in FY 2009. Adjustments to the remaining permit categories are not needed at this time, and the FY 2009 quotas for these categories therefore, remain status quo, including the Incidental trip limit for tilefish for FY 2009, which will remain at its default value of 300 lb (136 kg). If final landings data for 2008 indicate that an adjustment of the quota for any of the other permit categories is necessary, a notification of the adjustment will be published in the Federal Register.

The FY 2009 tilefish Full-time Tier 2 permit category quota, the FY 2008 tilefish Full-time Tier 2 permit category landings, and the resulting overage of the FY 2008 tilefish Full-time Tier 2 permit category quota are presented in Table 1. The resulting adjusted FY 2009 tilefish Full-time Tier 2 permit category commercial quota is presented in Table 2.

Table 1. Tilefish Full-time Tier 2 Category 2008 Landings and Overage
Permit Category | 2008 Quota: Lb | 2008 Quota: Kg¹ | 2008 Landings: Lb | 2008 Landings: Kg¹ | 2008 Overage: Lb | 2008 Overage: Kg¹
Full-time Tier 2 | 284,288 | 128,951 | 291,620 | 132,277 | 7,332 | 3,326
¹ Kilograms are as converted from pounds, and may not necessarily add due to rounding.

Table 2. Tilefish Full-time Tier 2 Category Adjusted FY 2009 Quota
Permit Category | 2009 Initial Quota: Lb | 2009 Initial Quota: Kg¹ | 2009 Adjusted Quota: Lb | 2009 Adjusted Quota: Kg¹
Full-time Tier 2 | 284,288 | 128,951 | 276,956 | 125,625
¹ Kilograms are as converted from pounds, and may not necessarily add due to rounding.

Classification

This action is required by 50 CFR part 648 and is exempt from review under Executive Order 12866. Pursuant to 5 U.S.C. 553(b)(B), the Assistant Administrator finds good cause to waive prior notice and opportunity for public comment as notice and comment would be impracticable and unnecessary. The regulations under § 648.290(c) requires the Regional Administrator to subtract any overage of the quota for any tilefish limited access category from the quota for that category in the following fishing year. Accordingly, the action being taken by this temporary rule is nondiscretionary. There is no discretion to modify this action based on public comment at this time. The rate of harvest of tilefish by the Full-time permit category is updated weekly on the internet at http://www.nero.noaa.gov. Accordingly, the public is able to obtain information that would provide at least some advanced notice of a potential action as a result of a tilefish quota being exceeded during FY 2008. Further, the potential for this action was considered and open to public comment during the development of the tilefish FMP. Therefore, any negative effect the waiving of public comment may have on the public is mitigated by these factors.

Authority: 16 U.S.C. 1801 et seq.

Dated: October 1, 2008.
Emily H. Menashes,
Acting Director, Office of Sustainable Fisheries, National Marine Fisheries Service.

[FR Doc. E8-23720 Filed 10-6-08; 8:45 am]

BILLING CODE 3510-22-S